DEPARTMENT OF THE INTERIOR

Bureau of Land Management

[WY-920-1430-ET; WYW 149499]

Notice of Proposed Withdrawal and Opportunity for Public Meeting; Wyoming

AGENCY: Bureau of Land Management, Interior.

ACTION: Notice.

SUMMARY: The Bureau of Land Management (BLM) proposes to withdraw approximately 4.93 acres of public land in Sweetwater County, to protect capital improvements of the Rock Springs administrative site. This notice closes the land for up to 2 years from surface entry and mining. The land will remain open to mineral leasing.

DATES: Comments and requests for a public meeting must be received by January 4, 2001.

ADDRESSES: Comments and requests should be sent to the BLM Wyoming State Director, P.O. Box 1828, Cheyenne, Wyoming 82003-1828.

FOR FURTHER INFORMATION CONTACT: Janet Booth, BLM Wyoming State Office, 307-775-6124, or Stan McKee, BLM Rock Springs Field Manager, 280 Highway 191 North, Rock Springs, Wyoming 82901, 307-352-0256.

SUPPLEMENTARY INFORMATION: On September 15, 2000, a petition/application was approved allowing the Bureau of Land Management to file an application to withdraw the following described public land from settlement, sale, location, or entry under the general land laws, including the mining laws, subject to valid existing rights:

Sixth Principal Meridian

T. 19 N., R. 105 W.,

Sec. 14, Lot 19.

The area described contains approximately 4.93 acres in Sweetwater County.

The purpose of the proposed withdrawal is to protect the capital improvements associated with development and maintenance of the Rock Springs administrative site pending further study and possibly longer-term actions.

For a period of 90 days from the date of publication of this notice, all persons who wish to submit comments, suggestions, or objections in connection with the proposed withdrawal may present their views in writing to the undersigned officer of the BLM.

Notice is hereby given that an opportunity for a public meeting is afforded in connection with the proposed withdrawal. All interested persons who desire a public meeting for the purpose of being heard on the proposed withdrawal must submit a written request to the Wyoming State Director within 90 days from the date of publication of this notice. Upon determination by the authorized officer that a public meeting will be held, a notice of time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. Licenses, permits, cooperative agreements, or discretionary land use authorizations of a temporary nature which will not significantly impact the values to be protected by the withdrawal may be allowed with the approval of an authorized officer of the BLM during the segregative period.

Dated: September 27, 2000.
Alan L. Kesterke,
Associate State Director.

[FR Doc. 00-25556 Filed 10-4-00; 8:45 am]

BILLING CODE 4310-22-P